DEPARTMENT OF LABOR

[TA-W-60,850]

Employment and Training Administration: Alan White Company Corporate Office, Stamps, AR; Notice of Revised Determination on Reconsideration

On April 12, 2007, the Department issued an Affirmative Determination Regarding Application on Reconsideration applicable to workers and former workers of the subject firm. The notice was published in the Federal Register on April 23, 2007 (72 FR 20140).

The previous investigation initiated on January 30, 2007, resulted in a negative determination issued on March 28, 2007, was based on the finding that workers of the subject firm performed administrative services and supported production of two affiliated plants (Sulligent, Alabama and Shannon, Mississippi) whose workers were recently denied TAA eligibility. The investigation revealed that imports of upholstered furniture did not contribute importantly to worker separations at the subject firm and no shift of production to a foreign source occurred. The denial notice was published in the Federal Register on April 10, 2007 (72 FR 17938).

In the request for reconsideration, the petitioner provided additional information regarding customers of Sulligent, Alabama and Shannon, Mississippi plants. Upon further review of the initial investigation, the Department requested an additional list of declining customers of these production facilities from a company official.

The survey of the additional customers revealed that a major declining customer increased its imports of upholstered furniture during the relevant period. The imports accounted for a meaningful portion of the subject plant's lost sales and production.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Alan White Company, Shannon, Mississippi, and Sulligent, Alabama, contributed importantly to the declines in sales or production and to the total or partial separation of workers at the subject firm. In accordance with the provisions of the Act, I make the following certification:

• All workers of Alan White Company, Corporate Office, Stamps, Arkansas, who became totally or partially separated from employment on or after January 29, 2006 through two years from the date of this certification, are eligible to apply for adjustment assistance under Section 223 of the Trade Act of 1974, and are eligible to apply for alternative trade adjustment assistance under Section 246 of the Trade Act of 1974.

Signed in Washington, DC, this 8th day of May 2007.
Elliott S. Kushner
Certifying Officer, Division of Trade Adjustment Assistance.

[FR Doc. E7-9106 Filed 5-10-07; 8:45 am]

BILLING CODE 4510-FN-P